DEPARTMENT OF HOMELAND SECURITY

Federal Emergency Management Agency

[Docket ID: FEMA-2015-0018; OMB No. 1660-0024]

Agency Information Collection Activities: Submission for OMB Review; Comment Request; Federal Assistance for Offsite Radiological Emergency Preparedness and Planning

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 27, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection was previously published in the Federal Register on August 10, 2015, at 80 FR 47943 with a 60 day public comment period. FEMA did not receive any comments in response to this proposed information collection. The purpose of this notice is to notify the public that FEMA will submit the information collection abstracted below to the Office of Management and Budget for review and clearance.

Collection of Information

Title: Federal Assistance for Offsite Radiological Emergency Preparedness & Planning.

Type of Information Collection: Revision of a currently approved information collection.

OMB Number: 1660-0024.

Form Titles and Numbers: There are no forms.

Abstract: The intent of this request is to revise a currently approved information collection to incorporate existing information collections in use without an OMB control number representing all information collections related to FEMA Radiological Emergency Preparedness (REP) Program requirements described in 44 CFR parts 350 and 352. Currently, only the 44 CFR part 352 collection is included under OMB Control #1660-0024.

Affected Public: State, Local or Tribal Government; and Business and other for profits.

Estimated Number of Respondents: 153.

Estimated Total Annual Burden Hours: 5,321.

Estimated Cost: The estimated annual cost to respondents is $216,219.98.

Dated: October 21, 2015.
Richard W. Mattison,
Records Management Program Chief, Mission Support, Federal Emergency Management Agency, Department of Homeland Security.

[FR Doc. 2015-27412 Filed 10-27-15; 8:45 am]

BILLING CODE 9110-21-P